DEPARTMENT OF TRANSPORTATION

Federal Aviation Administration

Tenth Meeting: RTCA Special Committee 217/EUROCAE WG-44: Terrain and Airport Mapping Databases

AGENCY: Federal Aviation Administration (FAA), U.S. Department of Transportation (DOT).

ACTION: Notice.

SUMMARY: The FAA is issuing this notice to advise the public of a meeting of RTCA Special Committee 217/EUROCAE WG-44: Terrain and Airport Mapping Databases: For the tenth meeting

DATES: The meeting will be held December 6-9, 2011, from 9 a.m. to 5 p.m.

ADDRESSES: The meeting will be held at Honeywell Deer Valley Facility, Conference Room, PRN C, 21111 N. 19th Ave., Phoenix, AZ. 85027. If you plan on attending please contact John Kasten at telephone (303) 328-4535, at mobile (303) 260-9652 or email john.kasten@jeppesen.com.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of RTCA Special Committee 217/EUROCAE WG-44: Terrain and Airport Mapping Databases. The agenda will include the following:

December 6, 2011

• Open Plenary Session.

• Chairman's Introductory Remarks.

• Housekeeping.

• Review and Approval of Ninth Meeting Minutes.

• Review of Meeting Agenda.

• Weekly Schedule.

• December PMC Meeting Discussion.

• Action Item Review (call for Presentations).

• Working Group Activity Status.

December 7, 2011

• Terrain and Obstacle Working Group Session.

• Discussion the differences between AIXM and the Modeling Effort for Terrain and Obstacles within the Committee.

• Decided on a method for addressing the use of the term “obstacle” in DO-276 and “vertical structure” in DO-272.

• Determine if and how to re-write Appendix E.

• Review work on Temporality.

• ASRN V&V Full Committee Working Group.

December 8, 2011

• Working Group Road Map Review.

• Draft Terms of Reference for DO-272-D and DO-291C.

• Action Item Review.

• Any other business.

December 9, 2011

• Closing Plenary Session.

• Joint RTCA SC-217/EUROCAE WG-44.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 2, 2011.
Robert L. Bostiga,
Manager, Business Operations Group, Federal Aviation Administration.

[FR Doc. 2011-29267 Filed 11-10-11; 8:45 am]

BILLING CODE 4910-13-P